DEPARTMENT OF LABOR

Employment and Training Administration

[TA-W-39,926]

Anvil Knitwear, Inc.; Kings Mountain, North Carolina; Notice of Revised Determination On Remand

The United States Court of International Trade (USCIT) granted the Secretary of Labor's motion for voluntary remand for further investigation of the negative determination in Former Employees of Anvil Knitwear, Inc. v. U.S. Secretary of Labor (Court No. 02-00153).

The Department's initial denial of the petition for employees of Anvil Knitwear, Inc., Kings Mountain, North Carolina was issued on December 4, 2001, and published in the Federal Register on December 26, 2001 (66 FR 66428). The denial was based on the fact that criterion (3) of the Group Eligibility Requirements of section 222 of the Trade Act of 1974, as amended, was not met. Imports did not contribute importantly to worker separations at the subject firm.

On remand, the Department obtained new information and clarification from the company regarding the internal flow of the fabrics produced by the subject plant.

New data supplied by the company show that the overwhelming majority of the fabric produced by the subject plant was shipped to an affiliated plant, Anvil Knitwear, Mullins, South Carolina. The Mullins plant incorporated the subject plant's fabric into knit tops and was certified for Trade Adjustment Assistance on April 13, 2001, under TA-W-38,829. The subject plant's fabrics were an integral part of Mullins knit top production.

Conclusion

After careful review of the additional facts obtained on remand, I conclude that there were increased imports of articles like or directly competitive with those produced by the subject firm that contributed importantly to the worker separations and sales or production declines at the subject facility. In accordance with the provisions of the Trade Act, I make the following certification:

All workers of Anvil Knitwear, Inc., Kings Mountain, North Carolina who became totally or partially separated from employment on or after August 3, 2000, through two years from the issuance of this revised determination, are eligible to apply for adjustment assistance under section 223 of the Trade Act of 1974.

Signed in Washington, DC this 14th day of January, 2003.
Edward A. Tomchick,
Director, Division of Trade Adjustment Assistance.

[FR Doc. 03-2559 Filed 2-3-03; 8:45 am]

BILLING CODE 4510-30-P